DEPARTMENT OF HEALTH AND HUMAN SERVICES

Substance Abuse and Mental Health Services Administration

Withdrawal of Group II Portion of Guidance for Applicants SM 02-009, Targeted Capacity Expansion: Meeting the Mental Health Services Needs of Older Adults

AGENCY: Center for Mental Health Services (CMHS), Substance Abuse and Mental Health Services Administration (SAMHSA), DHHS.

ACTION: Notice of withdrawal of Group II portion of Guidance for Applicants SM 02-009, Targeted Capacity Expansion: Meeting the Mental Health Services Needs of Older Adults.

SUMMARY: This notice is to inform the public that the SAMHSA/CMHS is withdrawing the Group II portion of the Guidance for Applicants (GFA) No. SM 02-009, Targeted Capacity Expansion: Meeting the Mental Health Services Needs of Older Adults (Short Title: Older Adult Mental Health Services). The application date for this GFA is June 19, 2002. The Group II award is for a National Technical Assistance Center for the Mental Health Needs of Older Adults. The Group I component of the program is unaffected by this announcement.

SAMHSA/CMHS will substantially revise and reissue the Group II component of the GFA for funding in Fiscal Year 2002. SAMHSA/CMHS believes that it is programatically advantageous to remove the PRISMe element, which was work begun under a previous award, from the general technical assistance element. This will enable the National Technical Assistance Center to focus on the core technical assistance and information dissemination functions of the Center while allowing the Government Project Officer to maintain a direct connection with the PRISMe project. Check the Federal Register and the SAMHSA web site for notice of the new announcement at http://www.samhsa.gov/.

Targeted Capacity Expansion: Meeting the Mental Health Services Needs of Older Adults grants support the adoption and implementation of evidence-based practices related to the delivery and organization of services for older adults with serious serious mental illness or who are at risk for serious mental illness. Awards for the Group I component of this program are limited to a maximum of $400,000 in total costs. The award for the Group II component is limited to a maximum of $1,400,000.

Program Contact: For questions concerning program issues, contact: Betsy McDonel Herr, Ph.D., Community Support Program, Room 11C-22, 5600 Fishers Lane, Rockville, MD 20857, 301-594-2197, Fax 301-443-0541, E-mail: bmcdonel@samhsa.gov.

Dated: June 12, 2002.
Richard Kopanda,
Executive Officer, SAMHSA.

[FR Doc. 02-15333 Filed 6-13-02; 2:59 pm]

BILLING CODE 4162-20-P